DEPARTMENT OF COMMERCE

National Oceanic and Atmospheric Administration

RIN 0648-XG281

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Advisory Panel will hold a public meeting, jointly with the Atlantic States Marine Fisheries Commission's Summer Flounder, Scup, and Black Sea Bass Advisory Panel.

DATES: The meeting will be held on Tuesday, June 26, 2018, from 10 a.m. until 4:30 p.m.

ADDRESSES: The meeting will be held at the Hilton Garden Inn BWI Airport, 1516 Aero Dr., Linthicum, MD 21090; telephone: (410) 691-0500.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's (MAFMC's) Summer Flounder, Scup, and Black Sea Bass Advisory Panel will meet jointly with the Atlantic States Marine Fisheries Commission's (ASMFC's) Summer Flounder, Scup, and Black Sea Bass Advisory Panel. The purpose of this meeting is to discuss recent performance of the summer flounder, scup, and black sea bass commercial and recreational fisheries and develop Fishery Performance Reports. These reports will be considered by the Scientific and Statistical Committee, the Monitoring Committee, and the MAFMC and ASMFC when setting 2019 fishery specifications (i.e., catch and landings limits and management measures) for summer flounder and black sea bass and reviewing previously implemented 2019 specifications for scup. The AP will also receive updates on the Summer Flounder Commercial Issues Amendment and a framework/addendum which will consider conservation equivalency for black sea bass, conservation equivalency rollover for summer flounder, Block Island Sound transit provisions, and slot limits in the recreational fisheries for all three species.

Special Accommodations

These meetings are physically accessible to people with disabilities. Requests for sign language interpretation or other auxiliary aid should be directed to M. Jan Saunders, (302) 526-5251, at least 5 days prior to the meeting date.

Dated: June 4, 2018.
Tracey L. Thompson,
Acting Deputy Director, Office of Sustainable Fisheries, National Marine Fisheries Service.

[FR Doc. 2018-12306 Filed 6-7-18; 8:45 am]

BILLING CODE 3510-22-P